SECURITIES AND EXCHANGE COMMISSION

17 CFR Part 230

General Rules and Regulations, Securities Act of 1933

CFR Correction

In Title 17 of the Code of Federal Regulations, Parts 200 to 239, revised as of April 1, 2010, on page 686, in § 230.501, following paragraph (e)(3), reinstate the Note to paragraph (e) to read as follows:

§ 230.501 Definitions and terms used in Regulation D.

* * * * *

(e) * * *

NOTE: The issuer must satisfy all the other provisions of Regulation D for all purchasers whether or not they are included in calculating the number of purchasers. Clients of an investment adviser or customers of a broker or dealer shall be considered the “purchasers” under Regulation D regardless of the amount of discretion given to the investment adviser or broker or dealer to act on behalf of the client or customer.

* * * * *

[FR Doc. 2011-6830 Filed 3-21-11; 8:45 am]

BILLING CODE 1505-01-D